DEPARTMENT OF THE INTERIOR

Bureau of Land Management

[NV-930-1430-01; N-56474]

Notice of Realty Action; Nevada

AGENCY: Bureau of Land Management, Interior.

ACTION: Notice.

SUMMARY: The following described land in Elko County, Nevada has been examined and found suitable for classification for lease/purchase under the Recreation and Public Purposes Act (R&PP) of June 14, 1926, as amended (43 U.S.C. 869 et seq.). The lands will not be offered for lease/purchase until at least 60 days after the date of publication of this Notice in the Federal Register.

Mount Diablo Meridian, Nevada

T. 34 N., R. 55 E.

Section 2, Lots 1-2, S½, S½NE¼.

Containing 164.09 acres, more or less.

DATES: The land will become segregated on June 21, 2000. Comments are due in this office by August 7, 2000.

FOR FURTHER INFORMATION CONTACT: Detailed information concerning this action is available for review at the Bureau of Land Management, Elko Field Office, 3900 Idaho Street, Elko, Nevada.

SUPPLEMENTARY INFORMATION: Elko County School District intends to use the land for a transportation facility and school complex. The lease/patent, when issued, will be subject to the provisions of the Recreation and Public Purposes Act, applicable regulations of the Secretary of the Interior, and will contain the following reservations to the United States.

1. A right-of-way thereof for ditches and canals constructed by the authority of the United States; Act of August 30, 1890 (43 U.S.C. 945).

2. All mineral deposits in the lands so patented, and to it, or persons authorized by it, the right to prospect for, mine and remove such deposits from the same under applicable laws and regulations to be established by the Secretary of the Interior.

The lease/patent will be subject to all prior and existing rights.

The land is not required for any Federal purpose. The classification and subsequent lease/conveyance are consistent with the Bureau's planning for the area and would be in the public interest.

Upon publication of this Notice of Realty Action in the Federal Register, the subject lands will be segregated from all forms of appropriation under the public land laws, including locations under the mining laws, except for recreation and public purposes and leasing under the mineral leasing laws. The segregative effect shall terminate upon issuance of a patent or as specified in an opening order to be published in the Federal Register, whichever occurs first.

For a period of 45 days from the date of publication of this notice in the Federal Register, interested parties may submit comments to the Field Manager, Elko Field Office, 3900 Idaho Street, Elko, NV 89801. Any objections will be evaluated by the State Director, who may sustain, vacate or modify this realty action. In the absence of timely filed objections, the classification of the lands described in this Notice will become effect 60 days from the date of publication in the Federal Register.

Classification Comments: Interested parties may submit comments involving the suitability of the land for lease/conveyance under the Recreation and Public Purposed Act. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a county transportation facility and school complex.

Dated: June 7, 2000.
David L. Stout,
Associate Field Manager.

[FR Doc. 00-15610 Filed 6-20-00; 8:45 am]

BILLING CODE 4310-HC-M